DEPARTMENT OF VETERANS AFFAIRS

[OMB Control No. 2900-0909]

Agency Information Collection Activity Under OMB Review: Guaranteed or Insured Loan Reporting Requirements

AGENCY: Veterans Benefits Administration, Department of Veterans Affairs.

ACTION: Notice.

SUMMARY: In compliance with the Paperwork Reduction Act (PRA) of 1995, this notice announces that the Veterans Benefits Administration, Department of Veterans Affairs, will submit the collection of information abstracted below to the Office of Management and Budget (OMB) for review and comment. The PRA submission describes the nature of the information collection and its expected cost and burden, and it includes the actual data collection instrument.

DATES: Comments and recommendations for the proposed information collection should be sent by August 11, 2025.

ADDRESSES: To submit comments and recommendations for the proposed information collection, please type the following link into your browser: www.reginfo.gov/public/do/PRAMain, select “Currently under Review—Open for Public Comments”, then search the list for the information collection by Title or “OMB Control No. 2900-0909.”

FOR FURTHER INFORMATION CONTACT: VA PRA information: Dorothy Glasgow, 202-461-1084, VAPRA@va.gov.

SUPPLEMENTARY INFORMATION:

Title: Guaranteed or Insured Loan Reporting Requirements.

OMB Control Number: 2900-0909 https://www.reginfo.gov/public/do/PRASearch.

Type of Review: Revision of a currently approved collection.

Abstract: The Department of Veterans Affairs (VA) is submitting this revised information collection. VA statute requires lenders to report a guaranteed or insured loan to VA in such detail as the Secretary may prescribe under 38 U.S.C. 3702(c). In cases where the loan is guaranteed, the Secretary shall provide the lender with a loan guaranty certificate or other evidence of the guaranty. Regulations codified at 38 CFR 36.4303 and 38 CFR 36.4209 detail the requirements of lenders to report loans to VA in order to obtain evidence of the guaranty. VA is also updating the electronic form by changing the term “Gender” to “Sex” and changing the listing order of “Male” and “Female” to comply with the Executive Order and Office of Management and Budget Guidance for defending women.

An agency may not conduct or sponsor, and a person is not required to respond to a collection of information unless it displays a currently valid OMB control number. The Federal Register Notice with a 60-day comment period soliciting comments on this collection of information was published at: 89 FR 19794, May 9, 2025.

Affected Public: Individuals or Households.

Estimated Annual Burden: 80,813 hours.

Estimated Average Burden per Respondent: 15 minutes.

Frequency of Response: One time.

Estimated Number of Respondents: 488,755.

(Authority: 44 U.S.C. 3501 et seq.)

Dorothy Glasgow,
Acting, VA PRA Clearance Officer, Office of Enterprise and Integration, Data Governance Analytics, Department of Veterans Affairs.

[FR Doc. 2025-12924 Filed 7-10-25; 8:45 am]

BILLING CODE 8320-01-P